NATIONAL SCIENCE FOUNDATION

Notice of Permit Modification Received Under the Antarctic Conservation Act of 1978

AGENCY: National Science Foundation.

ACTION: Notice of Permit Modification Request Received and Permit Issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection.

NSF issued a permit (ACA 2017-013) to George Watters on October 21, 2016. The issued permit allows the applicant to conduct waste management associated with ship- and shore-based research and logistic activities conducted by the National Oceanic and Atmospheric Administration's (NOAA) Antarctic Marine Living Resources (AMLR) Program. The permit covers the deployment of a variety of oceanographic instruments.

Now the applicant proposes a permit modification to provide further details about two types of oceanographic instruments that would be deployed during future research cruises. Up to six moorings would be deployed, as described in the original permit, and up to three Slocum gliders would be deployed and retrieved. The Environmental Officer has reviewed the modification request and has determined that the amendment is not a material change to the permit, and it will have a less than a minor or transitory impact.

Dates of permitted activities: March 30, 2018—July 30, 2021.

The permit modification was issued on March 30, 2018.

Nadene Kennedy,
Polar Coordination Specialist, Office of Polar Programs.

[FR Doc. 2018-07099 Filed 4-5-18; 8:45 am]

BILLING CODE 7555-01-P